DEPARTMENT OF TRANSPORTATION

Office of the Secretary

Aviation Proceedings, Agreements Filed During the Week Ending November 8, 2002

The following Agreements were filed with the Department of Transportation under the provisions of 49 U.S.C. 412 and 414. Answers may be filed within 21 days after the filing of the application.

Docket Number: OST-2002-13751.

Date Filed: November 5, 2002.

Parties: Members of the International Air Transport Association.

Subject: CAC/30/Meet/009/002 dated November 4, 2002, Cargo Agency Conference—Resolution 805zz, Intended effective date: October 1, 2002.

Docket Number: OST-2002-13771.

Date Filed: November 6, 2002.

Parties: Members of the International Air Transport Association.

Subject:

PTC EUR 0481 dated October 25, 2002,

TC2 Within Europe Expedited Resolutions 002ap, 074my r1-r2,

PTC2 EUR 0482 dated October 25, 2002,

TC2 Within Europe Expedited Resolutions r3-r8,

PTC2 EUR 0483 dated October 25, 2002,

TC2 Within Europe Expedited Resolutions 002ar, 004a r9-r10,

Intended effective date: December 1, 2002, December 15, 2002, January 1, 2003.

Andrea M. Jenkins,
Federal Register Liaison.

[FR Doc. 02-29227 Filed 11-18-02; 8:45 am]

BILLING CODE 4910-62-P